SECURITIES AND EXCHANGE COMMISSION

Submission for OMB Review; Comment Request

Upon written request, copies available from: Securities and Exchange Commission, Office of Filings and Information Services, Washington, DC 20549.

Extension:

Rule 17a-10; SEC File No. 270-154; OMB Control No. 3235-0122.

Notice is hereby given that pursuant to the Paperwork Reduction Act of 1995 (44 U.S.C. 3501 et seq.) the Securities and Exchange Commission (“Commission”) has submitted to the Office of Management and Budget a request for extension of the previously approved collection of information discussed below. The Code of Federal Regulations citation to this collection of information is the following rule: 17 CFR 240.17a-10.

Rule 17a-10 requires broker-dealers that are exempted from the filing requirements of paragraph (a) of Rule 17a-5 (17 CFR section 240.17a-5) to file with the Commission an annual statement of income (loss) and balance sheet. It is anticipated that approximately 500 broker-dealers will spend 12 hours per year complying with Rule 17a-10. The total burden is estimated to be approximately 6,000 hours. Each broker-dealer will spend approximately $880 per response ¹ for a total annual expense for all broker-dealers of $440,000.

¹ According to the Securities Industry Association's guide on management and professional earnings, the median salary for a financial reporting manager is $97,500. Assuming that a financial reporting manager works 1800 hours per year, he or she earns $54.17 per hour. Adding in overhead costs of 35%, the hourly rate equals $73.13 per hour, or $877.56 per 12-hour response.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or by sending an e-mail to: David_Rostker@omb.eop.gov; and (ii) R. Corey Booth, Director, Chief Information Officer, Office of Information Technology, Securities and Exchange Commission, 100 F Street, NE., Washington, DC 20549. Comments must be submitted to OMB within 30 days of this notice.

Dated: September 13, 2005.
Jonathan G. Katz,
Secretary.

[FR Doc. 05-18764 Filed 9-20-05; 8:45 am]

BILLING CODE 8010-01-P